DEPARTMENT OF COMMERCE

National Oceanic and Atmospheric Administration

[I.D. 082404B]

Taking of Marine Mammals Incidental to Commercial Fishing Operations; Tuna Purse Seine Vessels in the Eastern Tropical Pacific Ocean (ETP)

AGENCY: National Marine Fisheries Service (NMFS), National Oceanic and Atmospheric Administration (NOAA), Commerce.

ACTION: Notification of change of final finding of dolphin-safe tuna.

SUMMARY: This Notice announces that on August 9, 2004, the United States District Court for the Northern District of California issued an order which set aside the final finding made on December 31, 2002, by the Assistant Administrator for Fisheries, NMFS, (Assistant Administrator). Under the terms of this Order, the labeling standard for “dolphin-safe” tuna shall be governed by the provisions of the Dolphin Protection Consumer Information Act. Under that provision, tuna are deemed dolphin safe if “no tuna were caught on the trip in which such tuna were harvested using a purse seine net intentionally deployed on or to encircle dolphins, and no dolphins were killed or seriously injured during the sets in which the tuna were caught.”

DATES: Effective on August 9, 2004.

FOR FURTHER INFORMATION CONTACT: Jeremy Rusin, Office of Protected Resources, Southwest Region, NMFS, 501 West Ocean Boulevard, Suite 4200, Long Beach, California, 90802-4213; Phone 562-980-3248; Fax 562-980-4027.

SUPPLEMENTARY INFORMATION: The Dolphin Protection Consumer Information Act (DPCIA) (16 U.S.C. 1385), as amended by the International Dolphin Conservation Program Act, requires the Secretary of Commerce (Secretary) to make a finding based on the results of scientific research, information obtained under the International Dolphin Conservation Program, and any other relevant information, as to whether the intentional deployment on or encirclement of dolphins with purse seine nets is having a “significant adverse impact” on any depleted dolphin stock in the eastern tropical Pacific Ocean (ETP). On December 31, 2002, the Assistant Administrator, on behalf of the Secretary of Commerce, issued a final finding under section (g)(2) of the DPCIA, and published notification in the Federal Register on January 15, 2003 (68 FR 2010).

In the final finding, the Assistant Administrator determined that the chase and intentional deployment on or encirclement of dolphins with purse seine nets is not having a significant adverse impact on depleted dolphin stocks in the ETP. The final finding changed the definition of “dolphin-safe” for tuna products containing tuna harvested in the ETP by purse seine vessels with carrying capacity greater than 400 short tons and sold in the United States. Based upon the final finding, the definition of dolphin-safe for such tuna is governed by the provisions of section (h)(1) of the DPCIA. Under this definition, “dolphin-safe” means that dolphins can be encircled or chased during the trip in which tuna was harvested, but that no dolphins can be killed or seriously injured in the set in which the tuna was harvested.

On December 31, 2002, Earth Island Institute, eight organizations, and one individual person (Plaintiffs), filed a complaint in the United States District Court for the Northern District of California. This complaint challenged the Assistant Administrator's final finding and sought to enjoin any change in the dolphin-safe labeling standard for tuna harvested with purse seine nets.

On January 21, 2003, the Court, at the request of all parties, issued an order that stayed the implementation of the final finding. Under the terms of the order, the labeling standard for “dolphin-safe” tuna was governed by the provisions of (h)(2) of the DPCIA. Under that provision, tuna are deemed dolphin safe if “no tuna were caught on the trip in which such tuna were harvested using a purse seine net intentionally deployed on or to encircle dolphins, and no dolphins were killed or seriously injured during the sets in which the tuna were caught.” The terms of the order further provided that this labeling standard would remain in effect for 90 days from the date of the order or until the Court issued a ruling on a motion for a preliminary injunction, whichever was earlier.

On April 10, 2003, the Court granted the Plaintiff's motion for preliminary injunction. Under the Court's order, NMFS was prohibited from taking any action under the DPCIA to allow any tuna product to be labeled as “dolphin-safe” that was harvested using purse seine nets intentionally set on dolphins in the ETP. As a result of the terms of the Court's order, the definition of dolphin-safe continued to mean that Ano tuna were caught on the trip in which such tuna were harvested using a purse seine net intentionally deployed on or to encircle dolphins, and no dolphins were killed or seriously injured during the sets in which the tuna were caught” until further order of the Court.

On May 24, 2004, all parties simultaneously motioned the Court for summary judgment. On August 9, 2004, the Court ruled on the motions for summary judgment and found that the final finding made by the Assistant Administrator on December 31, 2002, was “arbitrary, capricious, an abuse of discretion and contrary to law pursuant to the Administrative Procedure Act, 5 U.S.C. 706(c).” Under the terms of this order, the labeling standard for “dolphin-safe” tuna shall be governed by the provisions of (h)(2) of the DPCIA. Under that provision, tuna are deemed dolphin safe if “no tuna were caught on the trip in which such tuna were harvested using a purse seine net intentionally deployed on or to encircle dolphins, and no dolphins were killed or seriously injured during the sets in which the tuna were caught.”

Dated: August 25, 2004.
William T. Hogarth,
Assistant Administrator for Fisheries, National Marine Fisheries Service.

[FR Doc. 04-19869 Filed 8-30-04; 8:45 am]

BILLING CODE 3510-22-S